NUCLEAR REGULATORY COMMISSION

[Docket Nos. 52-014 and 52-015]

Tennesse Valley Authority; Notice of Extension of Time for Petition for Leave To Intervene on a Combined License Application for Bellefonte Units 3 and 4

The Secretary of the Commission has issued an Order granting a 60-day extension for interested persons to file a petition for leave to intervene in the proceeding regarding the application for a Combined Operating License for Bellefonte Units 3 and 4. The 60-day extension runs from the date of the order, April 7, 2008. Petitions for leave to intervene must comply with the procedural requirements for E-Filing, as described in the original Federal Register notice for this proceeding dated February 8, 2008. 73 Fed. Reg. 7611. The Bellefonte application references proposed amendments to a certified design. Documents associated with these amendments are available under NRC docket number 52-006. Documents may be examined, and/or copied for a fee, at the NRC's Public Document Room (PDR), located at One White Flint North, Public File Area O1 F21, 11555 Rockville Pike (first floor), Rockville, Maryland, and will be accessible electronically through the Agencywide Documents Access and Management System (ADAMS) Public Electronic Reading Room link at the NRC Web site http://www.nrc.gov/reading-rm/adams.html. Persons who do not have access to ADAMS or who encounter problems in accessing documents located in ADAMS should contact the NRC PDR Reference staff by telephone at 1-800-397-4209, or 301-415-4737, or by e-mail to pdr@nrc.gov.

Dated at Rockville, Maryland this 7th day of April 2008.
For the U.S. Nuclear Regulatory Commission.
Annette L. Vietti-Cook,
Secretary of the Commission.

[FR Doc. E8-7729 Filed 4-10-08; 8:45 am]

BILLING CODE 7590-01-P